DEPARTMENT OF DEFENSE

Department of the Army, Corps of Engineers

33 CFR Part 334

United States Navy Restricted Area, Narragansett Bay, East Passage, Coasters Harbor Island, Naval Station Newport, Newport, RI

AGENCY: United States Army Corps of Engineers, Department of Defense.

ACTION: Notice of proposed rulemaking and request for comments.

SUMMARY: The Corps of Engineers is proposing regulations to establish a restricted area on the east side of the East Passage of Narragansett Bay around Coasters Harbor Island in the vicinity of Naval Station Newport. These regulations will enable the Navy to enhance safety and security around Coasters Harbor Island. It will create an area of separation between general navigation on the East Passage of Narragansett Bay and Naval Station Newport. The regulations will safeguard government personnel and property plus United States government contractor facilities located onboard Naval Station Newport from sabotage and other subversive acts, accidents, or incidents of similar nature. These regulations are also necessary to protect the public from potentially hazardous conditions that may exist as a result of Navy use and security of the area.

DATES: Written comments must be submitted on or before December 18, 2003.

ADDRESSES: U. S. Army Corps of Engineers, ATTN: CECW-OR, 441 G Street, NW., Washington, DC 20314-1000.

FOR FURTHER INFORMATION CONTACT: Mr. Frank Torbett, Headquarters Regulatory Branch, Washington, DC at (202) 761-4618, or Mr. Michael Elliott, Corps of Engineers, New England District, at (978) 318-8131 or 1-800-343-4789.

SUPPLEMENTARY INFORMATION: Pursuant to its authorities in Section 7 of the Rivers and Harbors Act of 1917 (40 Stat 266; 33 U.S.C. 1) and Chapter XIX, of the Army Appropriations Act of 1919 (40 Stat 892; 33 U.S.C. 3) the Corps proposes to amend the restricted area regulations in 33 CFR Part 334 by adding Section 334.82 which establishes a restricted area in the navigable waters immediately adjacent to Coasters Harbor Island and enclosing the island and mainland shoreline of Naval Station Newport from Coddington Point south to the Naval Hospital on the eastern side of the East Passage of Narragansett Bay in Newport, Rhode Island. To better protect the Naval War College and vessels and personnel stationed at the facility and the general public, the Navy, has requested the Corps of Engineers establish a Restricted Area. This will enable the Navy to keep persons and vessels out of the area at all times, except with the permission of the Commanding Officer Naval Station Newport, USN Newport, Rhode Island or his/her authorized representative.

Procedural Requirements

a. Review Under Executive Order 12866

This proposed rule is issued with respect to a military function of the Defense Department and the provisions of Executive Order 12866 do not apply.

b. Review Under the Regulatory Flexibility Act

These proposed rules have been reviewed under the Regulatory Flexibility Act (Public Law 96-354) which requires the preparation of a regulatory flexibility analysis for any regulation that will have a significant economic impact on a substantial number of small entities (i.e., small businesses and small Governments). The Corps expects that the economic impact of the establishment of this restricted area would have practically no impact on the public, no anticipated navigational hazard or interference with existing waterway traffic and accordingly, certifies that this proposal if adopted, will have no significant economic impact on small entities.

c. Review Under the National Environmental Policy Act

A preliminary environmental assessment has been prepared for this action. The Districts expects, due to the minor nature of the proposed additional restricted area regulations, that this action, if adopted, will not have a significant impact to the quality of the human environment, and preparation of an environmental impact statement is not required. The environmental assessment may be reviewed at the District office listed at the end of FOR FURTHER INFORMATION CONTACT, above.

d. Unfunded Mandates Act

This proposed rule does not impose an enforceable duty among the private sector and, therefore, is not a Federal private sector mandate and is not subject to the requirements of Section 202 or 205 of the Unfunded Mandates Act. We have also found under Section 203 of the Act, that small Governments will not be significantly and uniquely affected by this rulemaking.

List of Subjects in 33 CFR Part 334

Danger zones, Marine safety, Restricted areas, Navigation (water), Restricted areas, Waterways.

For the reasons set out in the preamble, the Corps proposes to amend 33 CFR Part 334, as follows:

PART 334—DANGER ZONE AND RESTRICTED AREA REGULATIONS

1. The authority citation for Part 334 continues to read as follows:

Authority: 40 Stat. 266 (33 U.S.C. 1) and 40 Stat. 892 (33 U.S.C. 3).

2. Section 334.82 would be added to read as follows:

§ 334.82 Naragansett Bay, East Passage, Coasters Harbor Island, Naval Station Newport, Newport, Rhode Island, Restricted Area.

(a) The area. The waters within a “C-shaped” area adjacent to and surrounding Coasters Harbor Island beginning at Coddington Point at latitude 41°31′24.0′′ N, longitude 71°19′24.0′′ W; thence west southwest to latitude 41°31′21.5′′ N, longitude 71°19′45.0′′ W; thence south southwest to latitude 41°31′04.2′′ N, longitude 71°19′52.8′′ W; thence due south to latitude 41°30′27.3′′ N, longitude 71°19′52.8′′ W; thence south southeast to 41°30′13.8′′ N, longitude 71°19′42.0′′ W; thence southeast to latitude 41°30′10.2′′ N, longitude 71°19′32.6′′ W; thence due east to latitude 41°30′10.2′′ N, longitude 71°19′20.0′′ W; thence northerly along the mainland shoreline to the point of origin.

(b) The regulation. All persons, swimmers, vessels and other craft, except those vessels under the supervision or contract to local military or Naval authority, vessels of the United States Coast Guard, and federal, local or state law enforcement vessels, are prohibited from entering the restricted areas without permission from the Commanding Officer Naval Station Newport, USN, Newport, Rhode Island or his/her authorized representative.

(c) Enforcement. (1) The regulation in this section, promulgated by the United States Army Corps of Engineers, shall be enforced by the United States Navy, Commanding Officer Naval Station Newport, Newport, Rhode Island and/or other persons or agencies as he/she may designate.

(2) [Reserved]

Dated: November 3, 2003.
Michael B. White,
Chief, Operations Division, Directorate of Civil Works.

[FR Doc. 03-28706 Filed 11-17-03; 8:45 am]

BILLING CODE 3710-92-P